DEPARTMENT OF ENERGY

Federal Energy Regulatory Commission

Combined Notice of Filings

Take notice that the Commission has received the following Natural Gas Pipeline Rate and Refund Report filings:

Filings Instituting Proceedings

Docket Numbers: RP24-286-000.

Applicants: Crossroads Pipeline Company.

Description: Compliance filing: Penalty Revenue Credit Report 2023 to be effective N/A.

Filed Date: 12/29/23.

Accession Number: 20231229-5210.

Comment Date: 5 p.m. ET 1/10/24.

Docket Numbers: RP24-287-000.

Applicants: Northern Border Pipeline Company.

Description: § 4(d) Rate Filing: NBPL Section 4 Rate Case (1 of 2) to be effective 2/1/2024.

Filed Date: 12/29/23.

Accession Number: 20231229-5212.

Comment Date: 5 p.m. ET 1/10/24.

Docket Numbers: RP24-288-000.

Applicants: Millennium Pipeline Company, LLC.

Description: § 4(d) Rate Filing: Negotiated Rate Amdedment SWN-142020 to be effective 1/1/2024.

Filed Date: 12/29/23.

Accession Number: 20231229-5251.

Comment Date: 5 p.m. ET 1/10/24.

Docket Numbers: RP24-289-000.

Applicants: Columbia Gas Transmission, LLC.

Description: § 4(d) Rate Filing: CGV NC/NR Agreement 255792 to be effective 2/1/2024.

Filed Date: 12/29/23.

Accession Number: 20231229-5281.

Comment Date: 5 p.m. ET 1/10/24.

Docket Numbers: RP24-290-000.

Applicants: Equitrans, L.P.

Description: § 4(d) Rate Filing: Negotiated Rate Agreement—1/1/2024 to be effective 1/1/2024.

Filed Date: 12/29/23.

Accession Number: 20231229-5295.

Comment Date: 5 p.m. ET 1/10/24.

Docket Numbers: RP24-291-000.

Applicants: Texas Eastern Transmission, LP.

Description: § 4(d) Rate Filing: Negotiated Rates—Con Ed 910950 Releases 1-1-24 to be effective 1/1/2024.

Filed Date: 1/2/24.

Accession Number: 20240102-5121.

Comment Date: 5 p.m. ET 1/16/24.

Docket Numbers: RP24-292-000.

Applicants: Rover Pipeline LLC.

Description: § 4(d) Rate Filing: Summary of Negotiated Rate Capacity Release Agreements 1-2-2024 to be effective 1/1/2024.

Filed Date: 1/2/24.

Accession Number: 20240102-5220.

Comment Date: 5 p.m. ET 1/16/24.

Docket Numbers: RP24-293-000.

Applicants: NEXUS Gas Transmission, LLC.

Description: § 4(d) Rate Filing: Negotiated Rates—Various Releases eff 1-1-2024 to be effective 1/1/2024.

Filed Date: 1/2/24.

Accession Number: 20240102-5230.

Comment Date: 5 p.m. ET 1/16/24.

Docket Numbers: RP24-294-000.

Applicants: Maritimes & Northeast Pipeline, L.L.C.

Description: § 4(d) Rate Filing: Negotiated Rates—Northern to Emera Energy 3053 eff 1-1-24 to be effective 1/1/2024.

Filed Date: 1/2/24.

Accession Number: 20240102-5233.

Comment Date: 5 p.m. ET 1/16/24.

Docket Numbers: RP24-295-000.

Applicants: Equitrans, L.P.

Description: § 4(d) Rate Filing: Negotiated Rate Capacity Release Agreement—01/01/2024 to be effective 1/1/2024.

Filed Date: 1/2/24.

Accession Number: 20240102-5237.

Comment Date: 5 p.m. ET 1/16/24.

Docket Numbers: RP24-296-000.

Applicants: Algonquin Gas Transmission, LLC.

Description: § 4(d) Rate Filing: Negotiated Rates—Various Releases eff 1-1-24 to be effective 1/1/2024.

Filed Date: 1/2/24.

Accession Number: 20240102-5244.

Comment Date: 5 p.m. ET 1/16/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: PR24-17-001.

Applicants: Southern California Gas Company.

Description: Amendment Filing: Offshore Delivery Service Rate Revision November 2023 to be effective 11/1/2023.

Filed Date: 12/29/23.

Accession Number: 20231229-5254.

Comment Date: 5 p.m. ET 1/19/24.

§ 284.123(g) Protest: 5 p.m. ET 1/19/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 2, 2024.
Debbie-Anne A. Reese,
Deputy Secretary.

[FR Doc. 2024-00121 Filed 1-5-24; 8:45 am]

BILLING CODE 6717-01-P